ENVIRONMENTAL PROTECTION AGENCY

[FRL-9908-96-OA]

Notification of Two Public Teleconferences of the Science Advisory Board Panel for the Review of the EPA Water Body Connectivity Report

AGENCY: Environmental Protection Agency (EPA).

ACTION: Notice.

SUMMARY: The Environmental Protection Agency (EPA) Science Advisory Board (SAB) Staff Office announces two public teleconferences of the SAB Panel to discuss its draft advisory report concerning the EPA document titled Connectivity of Streams and Wetlands to Downstream Waters: A Review and Synthesis of the Scientific Evidence (September, 2013 External Review Draft, EPA/600/R-11/098B).

DATES: The SAB Panel for the Review of the EPA Water Body Connectivity Report will conduct public teleconferences on April 28, 2014 and May 2, 2014. Each of the teleconferences will begin at 1:00 p.m. and end at 5:00 p.m. (Eastern Time).

Location: The public teleconferences will be conducted by telephone only.

FOR FURTHER INFORMATION CONTACT: Any member of the public wishing to obtain information concerning the public teleconferences may contact Dr. Thomas Armitage, Designated Federal Officer (DFO), EPA Science Advisory Board Staff Office (1400R), U.S. Environmental Protection Agency, 1200 Pennsylvania Avenue NW., Washington, DC 20460; via telephone at (202) 564-2155 or via email at armitage.thomas@epa.gov. General information concerning the SAB as well as any updates concerning the teleconferences announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Panel for the Review of the EPA Water Body Connectivity Report will hold two public teleconferences to discuss its draft advisory report concerning the EPA document titled Connectivity of Streams and Wetlands to Downstream Waters: A Review and Synthesis of the Scientific Evidence (September, 2013 External Review Draft, EPA/600/R-11/098B). This SAB panel will provide advice to the Administrator through the chartered SAB.

Background: The SAB Panel for the Review of the EPA Water Body Connectivity Report previously held a face-to-face meeting on December 16-18, 2013 to conduct a peer review of the EPA document titled Connectivity of Streams and Wetlands to Downstream Waters: A Review and Synthesis of the Scientific Evidence (September, 2013 External Review Draft, EPA/600/R-11/098B) [Federal Register Notice dated September 24, 2013 (78 FR 58536-58537)]. Specifically, the Panel has been asked to evaluate: the clarity and technical accuracy of the EPA document, whether it includes the most relevant peer reviewed literature, whether the literature has been correctly summarized, and whether the findings and conclusions in the Report are supported by the available science. The purpose of the upcoming teleconferences is for the SAB Panel to discuss its draft advisory report. The two teleconferences will be conducted as one complete meeting, beginning on April 28, 2014, and continuing on May 2, 2014.

Availability of Meeting Materials: Teleconference agendas, the SAB Panel's draft advisory report, and any other meeting materials will be placed on the SAB Web at http://www.epa.gov/sab in advance of the teleconferences. For technical questions and information concerning the EPA document, Connectivity of Streams and Wetlands to Downstream Waters: A Review and Synthesis of the Scientific Evidence (September, 2013 External Review Draft, EPA/600/R-11/098B), please contact Dr. Laurie Alexander, National Center for Environmental Assessment, Office of Research and Development, U.S. EPA, 1200 Pennsylvania Avenue NW., Mail Code 8623P, Washington, DC 20460, telephone (703) 347-8630 or via email at alexander.laurie@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide oral statements to the SAB Panel should contact the DFO directly. Oral Statements: In general, individuals or groups requesting an oral presentation at a public teleconference will be limited to three minutes. Interested parties should contact Dr. Thomas Armitage, DFO, in writing (preferably via email) at the contact information noted above by April 23, 2014 to be placed on the list of public speakers for April 28, 2014. Written Statements: Members of the public wishing to provide written comments may submit them to the EPA Docket electronically via www.regulations.gov by email, by mail, or by hand delivery/courier. Please follow the detailed instructions provided in the written statements section of this notice. Written statements should be received in the EPA Docket by April 23, 2014 so that the information may be made available to the SAB Panel for its consideration. Written statements should be identified by Docket ID No. EPA-HQ-OA-2013-0582 and submitted to the Docket at www.regulations.gov by one of the following methods:

• www.regulations.gov: Follow the on-line instructions for submitting comments.

• Email: Docket_OEI@epa.gov: Include the docket number in the subject line of the message.

• Mail: Office of Environmental Information (OEI) Docket (Mail Code: 28221T), Docket ID No. EPA-HQ-OA-2013-0582, U.S. Environmental Protection Agency, 1200 Pennsylvania Ave. NW., Washington, DC 20460. The phone number is (202) 566-1752.

• Hand Delivery: The OEI Docket is located in the EPA headquarters Docket Center, Room 3334, WJC West Building, 1301 Constitution Ave. NW., Washington, DC. The EPA Docket Center Public Reading Room is open from 8:30 a.m. to 4:30 p.m., Monday through Friday, excluding legal holidays. The telephone number for the Public Reading Room is (202) 566-1744. Deliveries are only accepted during the docket's normal hours of operation, and special arrangements should be made for deliveries of boxed information.

Direct your comments to Docket ID No. EPA-HQ-OA-2013-0582. Please ensure that your comments are submitted by April 23, 2014. Comments received after that date will be marked late and may not be provided to the SAB Panel for consideration before the April 28, 2014 teleconference. It is EPA's policy to include all comments received in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, the SAB Panel may not be able to consider your comments. Electronic files should avoid the use of special characters and any form of encryption and be free of any defects or viruses. For additional information about EPA's public docket, visit the EPA Docket Center homepage at www.epa.gov/epahome/dockets.htm.

Documents in the docket are listed in the www.regulations.gov index. Although listed in the index, some information is not publicly available, e.g., CBI or other information whose disclosure is restricted by statute. Certain other material, such as copyrighted material will be publicly available only in hard copy. Publicly available docket materials are available either electronically at www.regulations.gov or in hard copy at the OEI Docket in the EPA Headquarters Docket Center.

Accessibility: For information on access or services for individuals with disabilities, please contact Dr. Thomas Armitage at (202) 564-2155 or armitage.thomas@epa.gov. To request accommodation of a disability, please contact Dr. Armitage preferably at least ten days prior to the teleconference to give EPA as much time as possible to process your request.

Dated: March 26, 2014.
Thomas H. Brennan,
Deputy Director, EPA Science Advisory Staff Office.

[FR Doc. 2014-07239 Filed 3-31-14; 8:45 am]

BILLING CODE 6560-50-P